FEDERAL COMMUNICATIONS COMMISSION

47 CFR Part 73

[DA No. 00-481, MM Docket No. 00-37, RM-9749]

Radio Broadcasting Services; New Richmond, WI and Coon Rapids & Moose Lake, MN

AGENCY: Federal Communications Commission.

ACTION: Proposed rule.

SUMMARY: This document requests comments on a Petition for Rule Making filed by Smith Broadcasting Company, Inc. proposing the substitution of Channel 296C2 for Channel 296C3 at New Richmond, Wisconsin, reallotment of Channel 296C2 to Coon Rapids, Minnesota, and modification of the license for Station WIXK-FM to specify operation on Channel 296C2 at Coon Rapids. The coordinates for Channel 296C2 at Coon Rapids are 45-11-42 and 93-05-14. To accommodate the allotment at Coon Rapids, we shall propose the substitution of Channel 249A for Channel 296A at Moose Lake, Minnesota, and modification of the construction permit for Station KBFH to specify operation on Channel 249A. The coordinates for Channel 249A are 46-27-10 and 92-45-47. Canadian concurrence will be requested for the allotment at Moose Lake. In accordance with Section 1.420(i) of the Commission's Rules, we will not accept competing expressions of interest for the use of Channel 296C2 at Coon Rapids.

DATES: Comments must be filed on or before April 24, 2000, and reply comments on or before May 9, 2000.

ADDRESSES: Federal Communications Commission, Washington, DC. 20554. In addition to filing comments with the FCC, interested parties should serve the petitioner's counsel, as follows: Mark N. Lipp, Scott C. Cinnamon, Shook, Hardy & Bacon, 600 14th Street, N.W., Suite 800, Washington, DC 20005.

FOR FURTHER INFORMATION CONTACT: Kathleen Scheuerle, Mass Media Bureau, (202) 418-2180.

SUPPLEMENTARY INFORMATION: This is a summary of the Commission's Notice of Proposed Rule Making, MM Docket No. 00-37, adopted February 13, 2000, and released March 3, 2000. The full text of this Commission decision is available for inspection and copying during normal business hours in the Commission's Public Reference Center, 445 Twelfth Street, S.W., Washington, DC. The complete text of this decision may also be purchased from the Commission's copy contractors, International Transcription Services, Inc., 1231 20th Street, NW., Washington, DC 20036, (202) 857-3800, facsimile (202) 857-3805.

Provisions of the Regulatory Flexibility Act of 980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-6054 Filed 3-10-00; 8:45 am]

BILLING CODE 6712-01-U